DEPARTMENT OF COMMERCE

National Oceanic and Atmospheric Administration

RIN 0648-XD851

Pacific Fishery Management Council (Pacific Council); Public Meetings

AGENCY: National Marine Fisheries Service (NMFS), National Oceanic and Atmospheric Administration (NOAA), Commerce.

ACTION: Notice of public meetings.

SUMMARY: The Pacific Fishery Management Council and its advisory entities will hold public meetings.

DATES: The Pacific Council and its advisory entities will meet April 10-16, 2015. The Pacific Council meeting will begin on Saturday, April 11, 2015 at 8 a.m., reconvening each day through Thursday, April 16, 2015. All meetings are open to the public, except a closed session will be held at 8 a.m. on Saturday, April 11 to address litigation and personnel matters. The Pacific Council will meet as late as necessary each day to complete its scheduled business.

ADDRESSES: Meetings of the Council and its advisory entities will be held at the Doubletree by Hilton Sonoma, One Doubletree Drive, Rohnert Park, CA 94928; telephone: (707) 584-5466.

Council address: Pacific Fishery Management Council, 7700 NE Ambassador Place, Suite 101, Portland, OR 97220. Instructions for attending the meeting via live stream broadcast are given under SUPPLEMENTARY INFORMATION, below.

FOR FURTHER INFORMATION CONTACT: Dr. Donald O. McIsaac, Executive Director; telephone: (503) 820-2280 or (866) 806-7204 toll free; or access the Pacific Council Web site, http://www.pcouncil.org/council-operations/council-meetings/current-meeting/ for the current meeting location, proposed agenda, and meeting briefing materials.

SUPPLEMENTARY INFORMATION: The April 10-16, 2015 meeting of the Pacific Fishery Management Council will be streamed live on the internet. The live meeting will be broadcast daily starting at 9 a.m. Pacific Time (PT) beginning on Saturday, April 11, 2015 through Thursday, April 16, 2015. The broadcast will end daily at 6 p.m. PT or when business for the day is complete. Only the audio portion, and portions of the presentations displayed on the screen at the Council meeting, will be broadcast. The audio portion is listen-only; you will be unable to speak to the Council via the broadcast. Join the meeting by visiting this link http://www.gotomeeting.com/online/webinar/join-webinar, enter the Webinar ID for this meeting, which is 109-418-027 and enter your email address as required. It is recommended that you use a computer headset as GoToMeeting allows you to listen to the meeting using your computer headset and speakers. If you do not have a headset and speakers, you may use your telephone for the audio portion of the meeting by dialing this TOLL number 1-480-297-0021 (not a toll free number); entering the phone audio access code 965-893-632; and then entering your Audio Pin which will be shown to you after joining the webinar. The webinar is broadcast in listen only mode.

The following items are on the Pacific Council agenda, but not necessarily in this order. Agenda items noted as “(Final Action)” refer to actions requiring the Council to transmit a proposed fishery management plan, proposed plan amendment, or proposed regulations to the Secretary of Commerce, under Sections 304 or 305 of the Magnuson-Stevens Fishery Conservation and Management Act. Additional detail on agenda items, Council action, and meeting rooms, is described in Agenda Item A.4, Proposed Council Meeting Agenda, and will be in the advance April 2015 briefing materials and posted on the Council Web site http://www.pcouncil.org/council-operations/council-meetings/current-briefing-book/.

A. Call to Order

1. Opening Remarks

2. Roll Call

3. Executive Director's Report

4. Approve Agenda

B. Open Comment Period

Comments on Non-Agenda Items

C. Habitat

Current Habitat Issues

D. Salmon Management

1. Tentative Adoption of 2015 Ocean Salmon Management Measures for Analysis

2. Methodology Review Preliminary Topic Selection

3. Clarify Council Direction on 2015 Ocean Salmon Management Measures

4. Additional Council Direction on 2015 Ocean Salmon Management Measures

5. Final Action on 2015 Ocean Salmon Management Measures (Final Action)

E. Groundfish Management

1. National Marine Fisheries Service Report

2. Trawl Cost Recovery Report (Final Action)

3. Salmon Endangered Species Act Reconsultation Update

4. Finalize Methodology Review Council Operating Procedure (COP)

5. Groundfish Essential Fish Habitat Amendment Scoping, Including Rockfish Conservation Area and Area Adjustments

6. Final Action on Widow Rockfish Reallocation and Divestiture Issues (Final Action)

7. Blackgill and Slope Rockfish Reallocation

8. Inseason Adjustments Including Carryover and Regulatory Amendment to Manage Set-Asides (Final Action)

9. Final Action to Implement 2015 Pacific Whiting Fishery under the U.S.-Canada Pacific Whiting Agreement (Final Action)

F. Administrative Matters

1. Seabird Protection Update

2. Prepare Comments on Proposed Changes to National Standard Guidelines 1, 3, and 7

3. Approval of Council Meeting Minutes

4. Membership Appointments and Council Operating Procedures

5. Future Council Meeting Agenda and Workload Planning

G. Coastal Pelagic Species Management

1. Final Action on Sardine Assessment, Specifications, and Management Measures (Final Action)

2. Finalize Methodology Review Council Operating Procedures

H. Pacific Halibut Management

Final Action on Incidental Landing Restrictions for 2015-2016 Salmon Troll Fishery (Final Action)

I. Enforcement Issues

1. Regulations for Vessel Movement Monitoring

Schedule of Ancillary Meetings

Day 1—Friday, April 10, 2015

Groundfish Advisory Subpanel 8 a.m.

Groundfish Management Team 8 a.m.

Model Evaluation Workgroup 8 a.m.

Salmon Advisory Subpanel 8 a.m.

Salmon Technical Team 8 a.m.

Scientific and Statistical Committee 8 a.m.

Habitat Committee 8:30 a.m.

Day 2—Saturday, April 11, 2015

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Salmon Advisory Subpanel 8 a.m.

Salmon Technical Team 8 a.m.

Scientific and Statistical Committee 8 a.m.

Enforcement Consultants 3 p.m.

Chair's Reception 6 p.m.

Day 3—Sunday, April 12, 2015

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Salmon Advisory Subpanel 8 a.m.

Salmon Technical Team 8 a.m.

Enforcement Consultants Ad hoc

Tribal Policy Group Ad hoc

Tribal and Washington Technical Group Ad hoc

Day 4—Monday, April 13, 2015

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants Ad hoc

Tribal Policy Group Ad hoc

Tribal and Washington Technical Group Ad hoc

Day 5—Tuesday, April 14, 2015

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants Ad hoc

Tribal Policy Group Ad hoc

Tribal and Washington Technical Group Ad hoc

Day 6—Wednesday, April 15, 2015

California State Delegation 7 a.m.

Oregon State Delegation 7 a.m.

Washington State Delegation 7 a.m.

Groundfish Advisory Subpanel 8 a.m.

Groundfish Management Team 8 a.m.

Salmon Technical Team 8 a.m.

Enforcement Consultants Ad hoc

Tribal Policy Group Ad hoc

Tribal and Washington Technical Group Ad hoc

Day 7—Thursday, April 16, 2015

California State Delegation 7 a.m.

Oregon State Delegation 7 a.m.

Washington State Delegation 7 a.m.

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: March 20, 2015.
Tracey L. Thompson,
Acting Deputy Director, Office of Sustainable Fisheries, National Marine Fisheries Service.

[FR Doc. 2015-06794 Filed 3-24-15; 8:45 am]

BILLING CODE 3510-22-P